DEPARTMENT OF DEFENSE

Department of the Air Force

[Docket ID: USAF-2013-0011]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act of 1974, as amended, were submitted on January 30, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 28, 2013.
Aaron Siegel,
Alternate OSD Federal Register Liaison Officer, Department of Defense.

F044 AF SG N

System name:

Physical Fitness File (June 11, 1997, 62 FR 31793).

* * * * *

Changes:

System ID:

Delete entry and replace with “F036 AF A1 I.”

System Name:

Delete entry and replace with “Air Force Fitness Program.”

System location:

Delete entry and replace with “Air Force Fitness Management System (AFFMS) is located at Defense Enterprise Computing Center Montgomery, 401 E. Moore Dr., Maxwell AFB-Gunter Annex, AL 36114-3004.

Air Force Fitness Management System II (AFFMS II) is located at Air Force Personnel Center Data Center, 499 C. Street West, Randolph AFB, TX 78150-4750. Records are also located at Air Force units of assignment. Official mailing addresses are published as an appendix to the Air Force's compilation of system notices.”

Categories of individuals covered by the system:

Delete entry and replace with “Air Force Active Duty, Reserve, and Air National Guard personnel.”

Categories of records in system:

Delete entry and replace with “Name, Social Security Number (SSN), Department of Defense Identification Number (DoD ID Number), rank, date of birth, duty phone, height, weight, physical fitness test scores, individual fitness reports, fitness screening questionnaire, letters documenting entry and participation in individual fitness rehabilitation programs, medical profile documents, fitness progress reports, scheduled medical evaluations and fitness center appointments, counseling documentation, and administrative actions taken.”

Authority for maintenance of the system:

Delete entry and replace with “10 U.S.C. 8013, Secretary of the Air Force; Air Force Policy Directive 36-29, Military Standards; Air Force Instruction 36-2905, Fitness Program; Department of Defense Directive 1308.1, Department of Defense Physical Fitness and Body Fat Program; Department of Defense Instruction 1308.3, Department of Defense Physical Fitness and Body Fat Programs Procedures; and E.O. 9397 (SSN), as amended.”

Purpose:

Delete entry and replace with “To document individuals' progress in the Air Force Fitness Program. The file keeps individuals and their leadership informed of fitness levels and progress in improving fitness levels towards achieving minimum Air Force fitness standards.”

* * * * *

Storage:

Delete entry and replace with “Paper records and electronic storage media.”

Retrievability:

Delete entry and replace with “Retrieved by name, SSN and/or DoD ID number.”

Safeguards:

Delete entry and replace with “Access to records is limited to person(s) responsible for servicing the record in the performance of their official duties and who are properly screened and cleared for need-to-know. System software uses Primary Key Infrastructure (PKI)/Common Access Card (CAC) authentication to lock out unauthorized access. System software contains authorization/permission partitioning in the form of by-name assigned user roles to limit access to appropriate organization level. Paper records are secured in locked cabinets or drawers when not in use.”

Retention and disposal:

Delete entry and replace with “Fitness program case files (paper records) are maintained until individual has sustained a fitness score greater than or equal to 75 percent for 24 consecutive months or 90 days after member's separation or retirement, whichever is sooner. Electronic records are destroyed when the agency determines that the electronic records are superseded, obsolete, and are no longer needed for administrative, legal, audit, or other operational purposes. Paper records are destroyed by tearing into pieces, shredding, pulping, macerating or burning. Electronic records are deleted from the system.”

System manager(s) and address:

Delete entry and replace with “Chief, Military Force Policy Division, 1040 Air Force Pentagon, Room 4D950, Washington, DC 20330-1040.”

Notification procedures:

Delete entry and replace with “Individuals seeking to determine whether this system of records contains information on themselves should address inquiries to Commander at the unit of assignment or attachment. Official mailing addresses are published as an appendix to the Air Force's compilation of systems of records notices.

For verification purposes, individual should provide their full name, SSN and/or DoD ID Number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare(or certify, verify, or state) under penalty of perjury that the foregoing is true and correct. Executed on (date). (Signature)’.”

Record access procedures:

Delete entry and replace with “Individuals seeking access to records about themselves contained in this system should address requests to the Commander at the unit of assignment or attachment. Official mailing addresses are published as an appendix to the Air Force's compilation of systems of records notices.

For verification purposes, individual should provide their full name, SSN and/or DoD ID Number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare(or certify, verify, or state) under penalty of perjury that the foregoing is true and correct. Executed on (date). (Signature)’.”

Contesting record procedures:

Delete entry and replace with “The Air Force rules for accessing records and for contesting contents and appealing initial agency determinations are published in 32 CFR part 806b, Air Force Instruction 33-332, Air Force Privacy Program and may be obtained from the system manager.”

Record source categories:

Delete entry and replace with “From healthcare providers; individuals who conduct fitness assessments and oversee the unit fitness program; and the individual to whom the record pertains.”

* * * * *

[FR Doc. 2013-05029 Filed 3-4-13; 8:45 am]

BILLING CODE 5001-06-P